DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA).

Title: Compliance with Government Performance and Results Act.

OMB Approval Number: 0610-0098.

Form Number(s): ED-915, ED-916, ED-917, and ED-918.

Type of Review: Regular submission.

Burden Hours: 11,131.

Number of Respondents: 1,530.

Average Hours Per Response: 7 hours and 20 minutes.

Needs and Uses: EDA must comply with the Government Performance and Results Act of 1993 which requires Federal agencies to develop performance measures, and report to Congress and stakeholders the results of the agency's performance. EDA needs to collect specific data from grant recipients to report on its performance in meeting its stated goals and objectives.

Affected Public: State, local, or tribal government; not-for-profit institutions; business or other for-profit organizations.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 19, 2008.
Gwellnar Banks,
Management Analyst, Office of the Chief Information Officer.

[FR Doc. E8-14281 Filed 6-24-08; 8:45 am]

BILLING CODE 3510-34-P